NUCLEAR REGULATORY COMMISSION

[Docket No(s). (as shown in Attachment 1); License No(s). (as shown in Attachment 1); EA-02-261]

In the Matter of all Operating Power Reactor Licensees; Order Modifying Licenses (Effective Immediately)

I

The licensees identified in Attachment 1 to this Order hold licenses issued by the U.S. Nuclear Regulatory Commission (NRC or Commission) authorizing operation of nuclear power plants in accordance with the Atomic Energy Act of 1954 and title 10 of the Code of Federal Regulations (10 CFR), part 50. Commission regulations at 10 CFR 50.54(p)(1) require these licensees to maintain safeguards contingency plan procedures in accordance with 10 CFR part 73, Appendix C. Specific safeguards requirements are contained in 10 CFR 73.55, 73.56, and 73.57.

II

On September 11, 2001, terrorists simultaneously attacked targets in New York, NY, and Washington, DC, utilizing large commercial aircraft as weapons. In response to the attacks and intelligence information subsequently obtained, the Commission issued a number of Safeguards and Threat Advisories to its licensees in order to strengthen licensees' capabilities and readiness to respond to a potential attack on a nuclear facility. On February 25, 2002, the Commission issued Orders to the licensees of operating power reactors to put the actions taken in response to the Advisories in the established regulatory framework and to implement additional security enhancements which emerged from NRC's ongoing comprehensive security review.

As a result of its consideration of licensees' access authorization programs as part of the comprehensive security review, the Commission has determined that certain compensatory measures are required to be implemented by licensees as prudent measures to improve access authorization at operating power reactors. Therefore, the Commission is imposing requirements, as set forth in Attachment 2 of this Order,¹ on all licensees of these facilities. These requirements, which supplement existing regulatory requirements, will provide the Commission with reasonable assurance that the public health and safety and common defense and security will continue to be adequately protected in the current threat environment. These requirements will remain in effect until the Commission determines otherwise.

¹ Attachment 2 contains SAFEGUARDS information and will not be released to the public.

The Commission recognizes that licensees may have already initiated many of the measures set forth in Attachment 2 to this Order in response to previously issued advisories or on their own. It is also recognized that some measures may not be possible or necessary at some sites, or may need to be tailored to accommodate the specific circumstances existing at the licensee's facility to achieve the intended objectives and avoid any unforeseen effect on safe operation.

In order to provide assurance that licensees are implementing prudent measures to achieve a consistent level of protection, all licenses identified in Attachment 1 to this Order shall be modified to include the requirements identified in Attachment 2 to this Order. In addition, pursuant to 10 CFR 2.202, the Commission finds that in the circumstances described above, the public health, safety and interest require that this Order be immediately effective.

III

Accordingly, pursuant to sections 103, 104, 161b, 161i, 161o, 182, and 186 of the Atomic Energy Act of 1954, as amended, and the Commission's regulations in 10 CFR 2.202 and 10 CFR parts 50 and 73, it is hereby ordered, effective immediately, that all licenses identified in Attachment 1 to this Order are modified as follows:

A. All Licensees shall, notwithstanding the provisions of any Commission regulation or license to the contrary, comply with the requirements described in Attachment 2 to this Order except to the extent that a more stringent requirement is set forth in the Licensee's security plan. The Licensees shall immediately begin implementation of the requirements in Attachment 2 to the Order and shall complete implementation no later than July 7, 2003, with the exception of compensatory measure B.1.1, which shall be implemented no later than April 7, 2003, and C.1.6 and C.1.8, which shall be completed no later than January 7, 2004.

B.1. All Licensees shall, within 20 days of the date of this Order, notify the Commission (1) if they are unable to comply with any of the requirements described in Attachment 2, (2) if compliance with any of the requirements is unnecessary in their specific circumstances, or (3) if implementation of any of the requirements would cause the Licensee to be in violation of the provisions of any Commission regulation or the facility license. The notification shall also provide justification for seeking relief from or variation of any specific requirement.

2. Any Licensee that considers that implementation of any of the requirements described in Attachment 2 to this Order would adversely impact safe operation of the facility must notify the Commission, within 20 days of the date of this Order, of the adverse safety impact, the basis for its determination that the requirement has an adverse safety impact, and either a proposal for achieving the same objectives specified in the Attachment 2 requirement in question, or a schedule for modifying the facility to address the adverse safety condition. If neither approach is appropriate, the Licensee must supplement its response to Condition B.1 of this Order to identify the condition as a requirement with which it cannot comply, with attendant justifications as required in Condition B.1.

C.1. All Licensees shall, within 20 days of the date of this Order, submit to the Commission a schedule for achieving compliance with each requirement described in Attachment 2.

2. All Licensees shall report to the Commission when they have achieved full compliance with the requirements described in Attachment 2.

D. Notwithstanding the provisions of 10 CFR 50.54(p), all measures implemented or actions taken in response to this Order shall be maintained until the Commission determines otherwise.

Licensee responses to Conditions B.1, B.2, C.1, and C.2, above shall be submitted in accordance with 10 CFR 50.4. In addition, Licensee submittals that contain Safeguards Information shall be properly marked and handled in accordance with 10 CFR 73.21.

The Director, Office of Nuclear Reactor Regulation may, in writing, relax or rescind any of the above conditions upon demonstration by the Licensee of good cause.

IV

In accordance with 10 CFR 2.202, the Licensee must, and any other person adversely affected by this Order may, submit a response to this Order, and may request a hearing on this Order, within 20 days of the date of this Order. Where good cause is shown, consideration will be given to extending the time to request a hearing. A request for extension of time in which to submit an answer or request a hearing must be made in writing to the Director, Office of Nuclear Reactor Regulation, U.S. Nuclear Regulatory Commission, Washington, DC 20555, and include a statement of good cause for the extension. The response may consent to this Order. Unless the response consents to this Order, the response shall, in writing and under oath or affirmation, specifically set forth the matters of fact and law on which the Licensee or other person adversely affected relies and the reasons as to why the Order should not have been issued. Any response or request for a hearing shall be submitted to the Secretary, Office of the Secretary of the Commission, U.S. Nuclear Regulatory Commission, ATTN: Rulemakings and Adjudications Staff, Washington, DC 20555. Copies also shall be sent to the Director, Office of Nuclear Reactor Regulation, U.S. Nuclear Regulatory Commission, Washington, DC 20555; to the Assistant General Counsel for Materials Litigation and Enforcement at the same address; to the Regional Administrator for NRC Region I, II, III, or IV, as appropriate for the specific facility; and to the Licensee if the answer or hearing request is by a person other than the Licensee. Because of possible disruptions in delivery of mail to United States Government offices, it is requested that decontrolled answers (no Safeguards Information) and requests for hearing be transmitted to the Secretary of the Commission either by means of facsimile transmission to 301-415-1101 or by e-mail to hearingdocket@nrc.gov and also to the Office of the General Counsel either by means of facsimile transmission to 301-415-3725 or by e-mail to OGCMailCenter@nrc.gov. If a person other than the Licensee requests a hearing, that person shall set forth with particularity the manner in which his/her interest is adversely affected by this Order and shall address the criteria set forth in 10 CFR 2.714(d).²

² The most recent version of title 10 of the Code of Federal Regulations, published January 1, 2002, inadvertently omitted the last sentence of 10 CFR 2.714 (d) and paragraphs (d)(1) and (d)(2) regarding petitions to intervene and contentions. For the complete, corrected text of 10 CFR 2.714 (d), please see 67 FR 20884, April 29, 2002.

If a hearing is requested by the Licensee or a person whose interest is adversely affected, the Commission will issue an Order designating the time and place of any hearing. If a hearing is held, the issue to be considered at such hearing shall be whether this Order should be sustained.

Pursuant to 10 CFR 2.202(c)(2)(i), the Licensee may, in addition to demanding a hearing, at the time the answer is filed or sooner, move that the presiding officer set aside the immediate effectiveness of the Order on the grounds that the Order, including the need for immediate effectiveness, is not based on adequate evidence but on mere suspicion, unfounded allegations, or error.

In the absence of any request for hearing, or written approval of an extension of time in which to request a hearing, the provisions specified in section III above shall be final 20 days from the date of this Order without further Order or proceedings. If an extension of time for requesting a hearing has been approved, the provisions specified in section III shall be final when the extension expires if a hearing request has not been received. An answer or a request for hearing shall not stay the immediate effectiveness of this Order.

Dated this 7th day of January, 2003.
For the Nuclear Regulatory Commission.
Samuel J. Collins,
Director, Office of Nuclear Reactor Regulation.

Attachment 1

Gregory Baker, Braidwood Station, Units 1 & 2, Exelon Generation Company, LLC, Docket Nos. STN 50-456 & STN 50-457, License Nos. NPF-72 & NPF-77, 35100 S. Rt. 53, Suite 84, Braceville, IL 60407

Mr. Jay K. Thayer, Site Vice President, Vermont Yankee Nuclear Power Station, Entergy Nuclear Vermont Yankee, LLC, Docket No. 50-271, License No. DPR-28, 185 Old Ferry Road, Brattleboro, VT 05302-0500

Mark Bezilla, Vice President, Beaver Valley Power Station, Units 1 & 2, FirstEnergy Nuclear Power Operating Company, Docket Nos. 50-334 & 50-412, License Nos. DPR-66 & NPF-73, P.O. Box 4, Route 168, Shippingport, PA 15077-0004

Ashok S. Bhatnagar, Site Vice President, Browns Ferry Nuclear Plant, Units 1, 2, & 3, Docket Nos. 50-259, 50-260, & 50-296, License Nos. DPR-33, DPR-52 & DPR-68, Tennessee Valley Authority, Intersection Limestone Country Roads 20 and 25, Athens, AL 35611

Denny Braund, Shearon Harris Nuclear Power Plant, Unit 1, Carolina Power & Light Company, Docket No. 50-400, License No. NPF-63, 5413 Shearon Harris Road, New Hill, NC 27562

Allen Brittain, Security Superintendent, Brunswick Steam Electric Plant, Units 1 & 2, Carolina Power & Light Company, Docket Nos. 50-325 & 50-324, License Nos. DPR-71 & DPR-62, Highway 27, 2.5 Miles North, Southport, NC 28461

Greg D. Brown, Grand Gulf Nuclear Station, Unit 1, Entergy Operations, Inc., Docket No. 50-416, License No. NPF-29, Bald Hill Road—Waterloo Road, Port Gibson, MS 39150

Michael Bruecks, Three Mile Island Nuclear Station, Unit 1, Amergen Energy Company, LLC, Docket No. 50-289, License No. DPR-50, Route 441 South, Middletown, PA 17057

Stephen A. Byrne, Senior Vice President-Nuclear Operations, Virgil C. Summer Nuclear Station, Unit 1, South Carolina Electric & Gas Company, Docket No. 50-395, License No. NPF-12, Hwy 215 N at Bradham Blvd., Jenkinsville, SC 29065

Mr. John T. Conway, Site Vice President, Nine Mile Point Nuclear Station, Units 1 & 2, Nine Mile Point Nuclear Station, LLC, Docket Nos. 50-220 & 50-410, License Nos. DPR-63 & NPF-69, 348 Lake Road, Oswego, NY 13126

David Combs, Byron Station, Units 1 & 2, Exelon Generation Company, LLC, Docket Nos. STN 50-454 & STN 50-455, License Nos. NPF-37 & NPF-66, 4450 N. German Church Road, Byron, IL 61010

Douglas Cooper, Site Vice President, Palisades Plant, Nuclear Management Company, LLC, Docket No. 50-255, License No. DPR-20, 27780 Blue Star, Memorial Highway, Covert, MI 49043

William T. Cottle, President & Chief Executive Officer, South Texas Project Electric Generating Company, Units 1 & 2, STP Nuclear Operating Company, Docket Nos. 50-498 & 50-499, License Nos. NPF-76 & NPF-80, 8 Miles West of Wadsworth, on FM 521, Wadsworth, TX 77483

Michael H. Crowthers, Supervising Engineer, Susquehanna Steam Electric Station, Units 1 & 2, PPL Susquehanna, LLC, Docket Nos. 50-387 & 50-388, License Nos. NPF-14 & NPF-22, 2 North Ninth Street, GENA61, Allentown, PA 18101

J. Mark Dunbar, Security Manager, Callaway Plant, Unit 1, Ameren Union Electric Company, Docket No. STN 50-483, License No. NPF-30, Highway CC, (5 Miles North of Highway 94), Portland, MO 65067

David Erbe, Security Manager, Wolf Creek Generating Station, Unit 1, Wolf Creek Nuclear Operating Corporation, Docket No. STN 50-482, License No. NPF-42, 1550 Oten Lane, NE, Burlington, KS 66839

William A. Evans, William B. McGuire Nuclear Station, Units 1 & 2, Duke Energy Corporation, Docket Nos. 50-369 & 50-370, License Nos. NPF-9 & NPF-17, Mail—MG01SC 12700 Hagers Ferry Road, Huntersville, NC 28078

Rick Ewart, Security Manager, Oyster Creek Nuclear Generating Station, AmerGen Energy Company, LLC, Docket No. 50-219, License No. DPR-16, Route 9, Forked River, NJ 08731

Mark Fencl, Security Manager, Point Beach Nuclear Plant, Units 1 & 2, Nuclear Management Company, LLC, Docket Nos. 50-266 & 50-301, License Nos. DPR-24 & DPR-27, 610 Nuclear Road, Two Rivers, WI 54241

Mark Findlay, Director, Kewaunee Nuclear Power Plant, Nuclear Management Corporation, Docket No. 50-305, License No. DPR-43, 700 First Street, Hudson, WI 54016

Marty Folding, Security Superintendent, Crystal River, Unit 3 Nuclear Generating Plant, Florida Power Corporation, Docket No. 50-302, License No. DPR-72, Crystal River Energy Complex 15760 West Power Line Street (NAID), Crystal River, FL 34428-6708

W. Gary Gates, Vice President for Nuclear Ops, Fort Calhoun Station, Unit 1, Omaha Public Power District, Docket No. 50-285, License No. DPR-40, 444 S. 16th Street Mall, Omaha, NE 68102

Valheria Gengler, Dresden Nuclear Power Station, Units 2 & 3, Exelon Generation Company, Docket Nos. 50-237 & 50-249, License Nos. DPR-19 & DPR-25, 6500 North Dresden Road, Morris, IL 60450-9765

Neil Harris, Comanche Peak Steam Electric Station, Units 1 & 2, TXU Generation Company LP, Docket Nos. 50-445 & 50-446, License Nos. NPF-87 & NPF-89, FM 56, 5 Miles North of Glen Rose, Glen Rose, TX 76043

J. Haley, Security Manager, James A FitzPatrick Nuclear Power Plant, Entergy Nuclear Operations, Inc., Docket No. 50-333, License No. DPR-59, 268 Lake Road, Lycoming, NY 13093

Jerry Sims, Project Coordinator Nuclear Security (B031), Southern Nuclear Operating Company, Inc., Joseph M. Farley Nuclear Plant, Units 1 & 2, Docket Nos. 50-348 & 50-364, License Nos. NPF-2 & NPF-8, Vogtle Electric Generating Plant, Units 1 & 2, Docket Nos. 50-424 & 50-425, License Nos. NPF-68 & NPF-81, 42 Inverness Center Parkway, Birmingham, AL 35242

Michael R. Higgins, Superintendent of Plant Security, Arkansas Nuclear One, Units 1 & 2, Entergy Operations, Inc., Docket Nos. 50-313 & 50-368, License Nos. DPR-51 & NPF-6, 1448 S.R. 333, Russellville, AR 72802

Andre James, Security Manager, River Bend Station, Entergy Operations, Inc., Docket No. 50-458, License No. NPF-47, 639 Loyola Avenue, New Orleans, LA 70113

William S. Johns, Site Security Supervisor, Turkey Point Nuclear Generating Station, Units 3 & 4, Florida Power & Light Company, Docket Nos. 50-250 & 50-251, License Nos. DPR-31 & DPR-41, 9760 SW 344th Street, Florida City, FL 33035

Michael Kansler, Chief Nuclear Officer, Indian Point Nuclear Generating Station, Units 2 & 3, Entergy Nuclear Operations, Inc., Docket Nos. 50-247 & 50-286, License Nos. DPR-26 & DPR-64, 295 Broadway, Suite 1, Buchanan, NY 10511-0249

Michael Bellamy, Senior Vice President, Pilgrim Nuclear Power Station, Unit 1, Entergy Nuclear Generation Company, Docket No. 50-293, License No. DPR-35, RFD #1 Rocky Hill Road, Plymouth, MA 02360

P.E. Katz, Vice President, Calvert Cliffs Nuclear Power Plant, Units 1 & 2, Calvert Cliffs Nuclear Power Plant, Inc., Docket Nos. 50-317 & 50-318, License Nos. DPR-53 & DPR-69, 1650 Lusby Parkway, Lusby, MD 20657-4702

Ben Kindred, Security Manager, Duane Arnold Energy Center, Nuclear Management Company, LLC, Docket No. 50-331, License No. DPR-49, 3277 DAEC Road, Polo, Iowa 52324

Terry King, Security Manager, Oconee Nuclear Station, Units 1, 2, & 3, Duke Energy Corporation, Docket Nos. 50-269, 50-270 & 50-287, License Nos. DPR-38, DPR-47 & DPR-55, 7800 Rochester Highway, Seneca, SC 29672

Joe Korte, Nuclear Security Manager, Fermi, Unit 2, Detroit Edison Company, Docket No. 50-341, License No. NPF-43, 6400 N. Dixie Highway, Newport, MI 48166

Brian B. Linde, Security Manager, Monticello Nuclear Generating Plant, Nuclear Management Company, Docket No. 263, License No. DPR-22, 2807 W. Highway 75, Monticello, MN 55362

Cortis Luffman, Surry Power Station, Unit 1 & 2, Virginia Electric & Power Company, Docket Nos. 50-280 & 50-281, License Nos. DPR-32 & DPR-37, 5570 Hog Island Road, Surry, VA 23883-0315

Tim Maddy, Manager, Station Nuclear Security, North Anna Power Station, Units 1 & 2, Virginia Electric & Power Company, Docket Nos. 50-338 & 50-339, License Nos. NPF-4 & NPF-7, 1022 Haley Drive, Mineral, Virginia 23117

Thomas Mahon, Security Manager, Perry Nuclear Power, Unit 1, FirstEnergy Nuclear Operating Company (FENOC), Docket No. 50-440, License No. NPF-58, 10 North Center Street, Perry, OH 44081

Robert C. Mecredy, Vice President, Nuclear Operations, R.E. Ginna Nuclear power Plant, Rochester Gas & Electric Corporation, Docket No. 50-244, License No. DPR-18, 89 East Avenue, Rochester, NY 14649

J.V. Parrish, Chief Executive Officer, Columbia Generating Station, Energy Northwest, Docket No. 50-397, License No. NPF-21, Snake River Warehouse, North Power Plant Loop, Richland, WA 99352

G.R. Peterson, Vice President Catawba Site, Catawba Nuclear Station, Units 1 & 2, Duke Energy Corporation, Docket Nos. 50-413 & 50-414, License Nos. NPF-35 & NPF-52, 4800 Concord Road, York, SC 29745

James M. Preschel, Regulatory Programs Manager, Seabrook Station, Unit 1, North Atlantic Energy Service Corporation, Docket No. 50-443, License No. NPF-86, FPL Energy Seabrook, LLC, Seabrook, NH 03874

J. Alan Price, Site Vice President, c/o Mr. David A. Smith, Millstone Power Station, Units 2 & 3, Dominion Nuclear Connecticut, Inc., Docket Nos. 50-336 & 50-423, License Nos. DPR-65 & NPF-49, Rope Ferry Road, Waterford, CN 06385

Michael W. Priebe, Dept. Leader-Security Operations, Palo Verde Nuclear Generating, Units 1, 2 & 3, Arizona Public Service Company, Docket Nos. STN 50-528, 50-529, & STN 50-530, License Nos. NPF-41, NPF-51 & NPF-74, 5801 S. Wintersburg Road, Tonapah, Arizona 85354-7529

Harold B. Ray, Executive Vice President, San Onofre Nuclear Station, Units 2 & 3, Southern California Edison Company, 500 Pacific Coast Highway, Docket Nos. 50-361 & 50-362, License Nos. NPF-10 & NPF-15, Building D3D, San Clemente, CA 92672

Gregory M. Rueger, Senior Vice President, Diablo Canyon Nuclear Power Plant, Units 1 & 2, Pacific Gas & Electric Company, Docket Nos. 50-275 & 50-323, License Nos. DPR-80 & DPR-82, Mail-B32, 77 Beale Street, San Francisco, CA 94105

Bonnie A. Schnetzler, Security Manager, Watts Bar Nuclear Plant, Unit 1, Tennessee Valley Authority, Docket No. 50-390, License No. NPF-90, Highway 68 Near Spring City, Spring City, TN 37381

Gary Sheel, Security Manager, Davis-Besse Nuclear Power Station, Unit 1, FirstEnergy Nuclear Operating Company (FENOC), Docket No. 50-346, License No. NPF-3, 5501 N. State, Route 2, Oak Harbor, OH 43449

Jerry Sims, Project Coordinator Nuclear Security (B031), Edwin I. Hatch Nuclear Plant, Units 1 & 2, Southern Nuclear Operating Company, Inc., Docket Nos. 50-321 & 50-366, License Nos. DPR-57 & NPF-5, 42 Inverness Center Park, Birmingham, AL 35242

Tim Tulon, Site Vice President, Quad Cities Nuclear Power Station, Units 1 & 2, Exelon Generation Company, Docket Nos. 50-254 & 50-265, License Nos. DPR-29 & DPR-30, 22710—206th Ave., North, Cordova, IL 61242

J. Michael Pacilio, Site Vice President, Clinton Power Station, Unit 1, AmerGen Energy Company, LLC, Docket No. 50-461, License No. NPF-62, Route 54 east, 6 miles, Clinton, IL 61727

Kenneth Stevens, Security Manager, Sequoyah Nuclear Plant, Units 1 & 2 (OPS5N), Tennessee Valley Authority (TVA), Docket Nos. 50-327 & 50-328, License Nos. DPR-77 & DPR-79, Sequoyah Road, Soddy Daisy, TN 37384

Ted Straub, Manager of Nuclear Security & Fire, Security Center, Salem Nuclear Generating Station, Units 1 & 2, Docket Nos. 50-272 & 50-311, DPR-70 & DPR-75, Hope Creek Generating Station, Docket No. 50-354, License No. NPF-57, PSEG Nuclear LLC, End of Buttonwood Road, Hancocks Bridge, NJ 08038

Peter R. Supplee, Limerick Generating Station, Units 1 & 2, Exelon Generation Company, LLC, Docket No. 50-352 & 50-353, License Nos. NPF-39 & NPF-85, Evergreen & Sanatoga Road, TSC 1-2, Sanatoga, PA 19464

Joseph E. Venable, Vice President, Operations, Waterford Steam Electric Generating Station, Unit 3, Entergy Operations, Inc., Docket No. 50-382, License No. NPF-38, 17265 River Road, Killona, LA 70066-0751

Wayne Trump, Manager—Site Security, Peach Bottom Atomic Power Station, Units 2 & 3, Exelon Generation Company, LLC, Docket Nos. 50-277 & 50-278, License Nos. DPR-44 & DPR-56, 1848 Lay Road, Delta, PA 17314

Gary L. Varnes, Site Security Manager, St. Lucie Nuclear Plant, Units 1 & 2, Florida Power & Light Company, Docket Nos. 50-335 & 50-389, License Nos. DPR-67 & NPF-16, 6351 South Ocean Drive, Jensen Beach, FL 34957

John Waddell, Nuclear Security Manager, Prairie Island & Nuclear Company, Nuclear Management Generating Plant, Units 1 & 2 Docket Nos. 50-282 & 50-306, License Nos. DPR-42 & DPR-60, 1717 Wakonade Drive East, Welch, MN 55089

Cindy Wilson, LaSalle County Station, Units 1 & 2, Exelon Generation Company, Docket Nos. 50-373 & 50-374, License Nos. NPF-11 & NPF-18, 2601 North 21st Road, Marseilles, IL 61341-9757

Mr. Clay C. Warren, Vice President of Nuclear, Cooper Nuclear Station, Nebraska Public Power District, Docket No. 50-298, License Nos. DPR-46, 2 Miles South of Brownsville, Brownsville, NE 68321

Scott Young, Security Superintendent, H.B. Robinson Steam Electric Plant, Unit 2, Carolina Power & Light Company, Docket No. 50-261, License No. DPR-23, 3581 West Entrance Road, Hartsville, SC 29550

A. Christopher Bakken, Senior Vice President and Chief Nuclear Officer, Donald C. Cook Nuclear Plant, Units 1 & 2, Docket Nos. 50-315 & 50-316, License Nos. DPR-58 & DPR-74, Indiana Michigan Power Group, 500 Circle Drive, Buchanan, MI 49107

[FR Doc. 03-572 Filed 1-10-03; 8:45 am]

BILLING CODE 7590-01-P